DEPARTMENT OF THE INTERIOR

Bureau of Land Management

[MT-912-0777-HN-003E]

Notice of Closures and Conditions of Use in the Butte, Dillon, Billings, and Lewistown Field Offices; Montana

AGENCY: Bureau of Land Management, Interior.

ACTION: Notice.

SUMMARY: Pursuant to 43 Code of Federal Regulations 9212.2, all Bureau of Land Management lands administered by the Butte, Dillon, Billings and Lewistown Field Offices east of the Continental Divide in Madison, Beaverhead, Gallatin, Park, Jefferson, Broadwater, Meagher, Lewis and Clark, Cascade, Teton, Pondera, Glacier, Toole, Stillwater, and Sweet Grass counties are closed to public entry or use. These closures are in addition to restrictions enumerated in 43 Code of Federal Regulations 9212.1 and become effective as of 12:01 a.m. mountain daylight time (MDT) August 23, 2000, and will remain in effect until rescinded or revoked. This amends or replaces the restrictions Order No. MT-00-04 enacted on August 15, 2000, for the Butte, Dillon, Billings and Lewistown Field Offices.

Exemptions: Pursuant to 43 Code of Federal Regulations 9212.2, the following persons are exempt from this order:

1. Any federal, state, or local officer or member of an organized rescue, law enforcement or firefighting force in the performance of an official duty.

2. Persons with a permit or other written authorization specifically allowing the otherwise prohibited act or omission.

3. Private landowners requiring access to their lands across closed public lands.

4. Grazing permittees in the performance of activities directly related to management of their livestock.

All exemptions will observe the following:

A. Driving will only be allowed on “cleared roads.” These are roads that are at least 12' wide and cleared of vegetation shoulder to shoulder. All other access will be by foot or horseback.

B. Anyone using public lands must have a reliable form of communication.

Recreation Use

Camp Grounds

No open flames permitted in open camp grounds listed.

5. Campgrounds around Canyon Ferry open to the public are: Lewis and Clark County: Chinamen's Gulch, Court Sheriff, Jo Bonner, Riverside and day-use areas; Shannon, Cave Bay, Cemetary Island and Sandy Beach. Broadwater County: Indian Road, Silos and White Earth

6. Campgrounds around Holter Lake open to the public are: Lewis and Clark County: Log Gulch, Holter Lake, and Holter Dam

7. Campgrounds on the Lower Madison River that will remain open are: Red Mountain

8. Campgrounds on the Upper Madison River that will remain open are: West Madison (Ruby Creek) and day-use of the South Madison Campground

9. Campgrounds on Ennis Lake that will remain open for day-use are: Kobyashi Beach

River Access (for Floating and Fishing)

10. Day-use on rivers to remain open from existing developed public access, except for the Gallatin River

Violation of this order is prohibited by the provisions of the regulations cited. Under 43 Code of Federal Regulations 9212.4, any violation is subject to punishment by a fine of not more than $1,000 and/or imprisonment of not more than 12 months.

DATES: Restrictions go into effect at 12:01 a.m. Wednesday, August 23, 2000, and will remain in effect until further notice.

ADDRESSES: Comments should be sent to BLM Montana State Director, Attention: Pat Mullaney, P.O. Box 36800, Billings, Montana 59107-6800.

FOR FURTHER INFORMATION CONTACT: Pat Mullaney, Fire Management Specialist, 406-896-2915.

Dated: August 21, 2000.
Roberta A. Moltzen,
Acting State Director.

[FR Doc. 00-21711 Filed 8-22-00; 9:39 am]

BILLING CODE 4310-$$-P